CORPORATION FOR NATIONAL AND COMMUNITY SERVICE

Sunshine Act Notice

The Board of Directors of the Corporation for National and Community Service gives notice of the following meeting:

DATE AND TIME: Thursday, July 31, 2014, 10:30-12:30 p.m. (ET).

PLACE: Time Warner, One Time Warner Center in the Time Warner Conference Center, New York, NY 10019 (upon arrival, security will escort you to the board room).

CALL-IN INFORMATION: This meeting is available to the public through the following toll-free call-in number: 800-988-9777 conference call access code number 6764819. Any interested member of the public may call this number and listen to the meeting. Callers can expect to incur charges for calls they initiate over wireless lines, and CNCS will not refund any incurred charges. Callers will incur no charge for calls they initiate over land-line connections to the toll-free telephone number. Replays are generally available one hour after a call ends. The toll-free phone number for the replay is 866-430-4718. TTY: 800-833-3722. The end replay date is August 31, 2014, 10:59 p.m. (CT).

STATUS: Open.

MATTERS TO BE CONSIDERED:

I. Chair's Opening Comments

a. Call to Order, Welcome, and Preview of Today's Meeting Agenda

b. Introduction and Acknowledgements

c. Summary of Retreat

II. Consideration of Previous Meeting's Minutes

III. CEO Report

IV. National Service Testimonials

V. Public Comments

VI. Final Comments and Adjournment

Members of the public who would like to comment on the business of the Board may do so in writing or in person. Individuals may submit written comments to jmauk@cns.gov subject line: JULY 2014 CNCS BOARD MEETING by 4:00 p.m. (ET) on July 25, 2014. Individuals attending the meeting in person who would like to comment will be asked to sign-in upon arrival. Comments are requested to be limited to 2 minutes.

REASONABLE ACCOMMODATIONS: The Corporation for National and Community Service provides reasonable accommodations to individuals with disabilities where appropriate. Anyone who needs an interpreter or other accommodation should notify Ida Green at igreen@cns.gov or 202-606-6861 by 5 p.m. (ET) on July 24, 2014.

CONTACT PERSON FOR MORE INFORMATION: Jenny Mauk, Special Assistant to the CEO, Corporation for National and Community Service, 1201 New York Avenue NW., Washington, DC 20525. Phone: 202-606-6615. Fax: 202-606-3460. TTY: 800-833-3722. Email: jmauk@cns.gov.

Dated: July 17, 2014.
Valerie Green,
General Counsel.

[FR Doc. 2014-17234 Filed 7-17-14; 4:15 pm]

BILLING CODE 6050-28-P